ENVIRONMENTAL PROTECTION AGENCY

[FRL-8550-2]

Clean Water Act Section 303(d): Final Agency Action on 56 Total Maximum Daily Loads (TMDLs)

AGENCY: Environmental Protection Agency (EPA).

ACTION: Notice of availability.

SUMMARY: This notice announces final agency action on 56 TMDLs prepared by EPA Region 6 for waters listed in Louisiana's Red, Sabine, and the Terrebonne Basins, under section 303(d) of the Clean Water Act (CWA). Documents from the administrative record file for the 56 TMDLs, including the TMDL calculations and responses to comments, may be viewed at http://www.epa.gov/earth1r6/6wq/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. EPA established 43 of these TMDLs pursuant to a consent decree entered in this lawsuit.

EPA Takes Final Agency Action on 56 TMDLs

By this notice EPA is taking final agency action on the following 56 TMDLs for waters located within the Louisiana river basins:

Subsegment | Waterbody name | Pollutant
100404 | Cypress Bayou Reservoir | Dissolved Oxygen.
100405 | Black Bayou (including Black Bayou Reservoir) | Dissolved Oxygen.
100406 | Flat River—Headwaters to Loggy Bayou | Nutrients and Dissolved Oxygen.
100501 | Bayou Dorcheat—Arkansas State Line to Lake Bistineau (scenic) | Dissolved Oxygen and Mercury.
100601 | Bayou Pierre—Headwaters to Sawing Lake | Nutrients and Dissolved Oxygen.
100602 | Boggy Bayou—Headwaters to Wallace Lake | Nutrients and Dissolved Oxygen.
100702 | Black Lake Bayou—Webster-Bienville Parish Line | Dissolved Oxygen.
100703 | Black Lake and Clear Lake | Dissolved Oxygen.
100803 | Saline Bayou—From Saline Lake to Red River | Dissolved Oxygen.
101301 | Rigolette Bayou—Headwaters to Red River | Dissolved Oxygen.
101302 | Iatt Lake | Dissolved Oxygen.
101604 | Lake Concordia | Dissolved Oxygen.
110401 | Bayou Toro—Headwaters to LA Hwy. 473 | Dissolved Oxygen.
120102 | Bayou Poydras | Nutrients and Dissolved Oxygen.
120103 | Bayou Choctaw | Nutrients, Nitrogen, Phosphorus, and Dissolved Oxygen.
120105 | Chamberlin Canal | Nutrients, Nitrogen, Phosphorus, and Dissolved Oxygen.
120106 | Bayou Plaquemine—Plaquemine Lock to Intracoastal Waterway | Nutrients and Dissolved Oxygen.
120107 | Upper Grand River and Lower Flat River—Headwaters to Intracoastal Waterway | Dissolved Oxygen.
120109 | Intracoastal Waterway—Morgan City to Port Allen Route—Port Allen Locks to Bayou Sorrel Locks | Nutrients and Dissolved Oxygen.
120110 | Bayou Cholpe—Headwaters to Bayou Choctaw | Dissolved Oxygen.
120202 | Bayou Black—Intracoastal Waterway to Houma | Nutrients and Dissolved Oxygen.
120204 | Lake Verret and Grassy Lake | Nutrients and Dissolved Oxygen.
120205 | Lake Palourde | pH.
120206 | Grand Bayou and Little Grand Bayou—Headwaters to Lake Varret | TSS.
120304 | Intracoastal Waterway—Houma to Larose | Nutrients and Dissolved Oxygen.
120401 | Bayou Penchant—Bayou Chene to Lake Penchant | Dissolved Oxygen.
120402 | Bayou Chene—From Intracoastal Waterway to Bayou Penchant Navigation Canal to Terrebonne Bay | pH.
120403 | Intracoastal Waterway—Bayou Boeuf | Dissolved Oxygen.
120404 | Lake Penchant | Dissolved Oxygen.
120405 | Lake Hache, Lake Theriot | Nutrients and Dissolved Oxygen.
120406 | Lake de Cade | Nutrients and Dissolved Oxygen.
120604 | Bayou Blue—Intracoastal Waterway to boundary between segments 1206 and 1207 | Dissolved Oxygen.
120606 | Bayou Blue—Grand Bayou Canal to boundary between segments 1206 and 1207 (Estuarine) | Nutrients and Dissolved Oxygen.
120708 | Lost Lake, Four League Bay | Nutrients and Dissolved Oxygen.
120709 | Bayou Petite Caillou—From Houma Navigation Canal to Terrebonne Bay | Nutrients and Dissolved Oxygen.

EPA requested the public to provide EPA with any significant data or information that might impact the 56 final TMDLs in the Federal Register Notices: Volume 72, Number 206, pages 60666 and 60667 (October 25, 2007); Volume 72, Number 209, pages 61355 and 61356 (October 30, 2007); and Volume 73, Number 22, pages 6178 and 6179 (February 1, 2008). The comments were received, and EPA's response to comments and the TMDLs may be found at http://www.epa.gov/earth1r6/6wq/npdes/tmdl/index.htm.

Dated: March 26, 2008.
Miguel Flores,
Director, Water Quality Protection Division, EPA Region 6.

[FR Doc. E8-6815 Filed 4-1-08; 8:45 am]

BILLING CODE 6560-50-P